DEPARTMENT OF LABOR

Employment and Training Administration

[TA-W-71,406]

Weyerhaeuser NR Company, et al.; Amended Certification Regarding Eligibility To Apply for Worker Adjustment Assistance

In accordance with Section 223 of the Trade Act of 1974, as amended (“Act”), 19 U.S.C. 2273, the Department of Labor issued a Certification of Eligibility to Apply for Worker Adjustment Assistance on August 6, 2009, applicable to workers of Weyerhaeuser NR Company, Aberdeen Forest Area Division, Cosmopolis, Washington. The notice was published in the Federal Register September 22, 2009 (74 FR 48302-48304).

At the request of the State Agency, the Department reviewed the certification for workers of the subject firm. The workers are engaged in activities related to the production of logs.

The company reports that leased workers from the above mentioned firms were employed at the Cosmopolis, Washington location of Weyerhaeuser NR Company. The Department has determined that these workers were sufficiently under the control of the subject firm to be considered leased workers.

Based on these findings, the Department is amending this certification to include workers leased from the above mentioned firms working on-site at the Cosmopolis, Washington location of Weyerhaeuser NR Company, Aberdeen Forest Area Division.

The amended notice applicable to TA-W-71,406 is hereby issued as follows:

All workers of Weyerhaeuser NR Company, Aberdeen Forest Area Division, including leased workers from Bridgewater Logging Inc., R.L. Smith Logging, Inc., NDC Timber Inc., Skookum Logging, Inc., Willapa Logging, Inc., Sevier Logging, Kiona Creek Timber, Inc., Don Frickel Cutting, Inc., Bill Hagara Trucking, Inc., Bill Hagara Jr. Trucking, Inc., Don Hagara Trucking, Inc., Osina Construction, Tony Gardner Trucking, Inc., MacMillan & Co., RL Smith Logging, Cecil Holmes Construction, JJ Welch Construction, Dave Williams Logging, Double D Logging, Pete Muller Logging/Const. Inc., Hi-Production Cutting, Inc., J&M Forestry, Willapa Log, Thompson Timber LLC, John Dickey Trucking, Barrier West, Brittland, Keith Muller Logging and Construction, J&P Cutting Inc., Brintec Inc., Ace Logging, Inc., and Thomsen Timber, Cosmopolis, Washington, who became totally or partially separated from employment on or after June 12, 2008, through August 6, 2011, and all workers in the group threatened with total or partial separation from employment on the date of certification through two years from the date of certification, are eligible to apply for adjustment assistance under Chapter 2 of Title II of the Trade Act of 1974, as amended.

Signed in Washington, DC, this 20th day of October 2009.
Elliott S. Kushner,
Certifying Officer, Division of Trade Adjustment Assistance.

[FR Doc. E9-27010 Filed 11-9-09; 8:45 am]

BILLING CODE 4510-FN-P